DEPARTMENT OF TRANSPORTATION

Surface Transportation Board

[STB Finance Docket No. 34942]

Iowa Interstate Railroad, Ltd.—Acquisition of Control Exemption—Lincoln & Southern Railroad Company

AGENCY: Surface Transportation Board, DOT.

ACTION: Notice of exemption.

SUMMARY: Under 49 U.S.C. 10502, the Board is granting a petition for exemption from the prior approval requirements of 49 U.S.C. 11323 et seq., for Iowa Interstate Railroad, Ltd., a Class II carrier, to acquire control by stock purchase of Lincoln & Southern Railroad Company, a Class III carrier.

DATES: This exemption will be effective on December 30, 2006. Petitions to stay must be filed by December 26, 2006. Petitions to reopen must be filed by January 11, 2007.

ADDRESSES: An original and 10 copies of all pleadings referring to STB Finance Docket No. 34942 must be filed with the Surface Transportation Board, 1925 K Street, NW., Washington, DC 20423-0001. In addition, one copy of all pleadings must be served on petitioner's representative: Edward J. Krug, 401 First Street SE, Suite 330, P.O. Box 186, Cedar Rapids, IA 52406-0186.

FOR FURTHER INFORMATION CONTACT: Joseph H. Dettmar, (202) 565-1600. [Assistance for the hearing impaired is available through the Federal Information Relay Service (FIRS) at 1-800-877-8339.]

SUPPLEMENTARY INFORMATION: Additional information is contained in the Board's decision. To purchase a copy of the full decision, write to, e-mail, or call: ASAP Document Solutions, 9332 Annapolis Rd., Suite 103, Lanham, MD 20706; e-mail: asapdc@verizon.net; telephone: (202) 306-4004. [Assistance for the hearing impaired is available through FIRS at 1-800-877-8339.]

Board decisions and notices are available on our Web site at http://www.stb.dot.gov.

Decided: December 15, 2006.
By the Board, Chairman Nottingham, Vice Chairman Mulvey, and Commissioner Buttrey.
Vernon A. Williams,
Secretary.

[FR Doc. E6-21948 Filed 12-21-06; 8:45 am]

BILLING CODE 4915-01-P